DEPARTMENT OF HEALTH AND HUMAN SERVICES

National Institutes of Health

National Library of Medicine; Notice of Meetings; Amended Notice of Meeting

Notice is hereby given of a change in the meeting of the Literature Selection Technical Review Committee, June 11-12, 2020, 8:30 a.m. to 5:00 p.m., at Building 38, 2nd Floor, The Lindberg Room, 8600 Rockville Pike, Bethesda, MD 20892, which was published in the Federal Register on February 4, 2020, 85 FR 23, Page 6209.

This notice is being amended to change the meeting location from Building 38, 2nd Floor, The Lindberg Room, Bethesda, MD 20894 to a video assisted meeting. The meeting will be closed to the public.

Dated: April 14, 2020.
Ronald J. Livingston, Jr.,
Program Analyst,Office of Federal Advisory Committee Policy.

[FR Doc. 2020-08287 Filed 4-17-20; 8:45 am]

BILLING CODE 4140-01-P